SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before May 24, 2004.

ADDRESSES: Send all comments regarding whether this information collection is necessary for the proper performance of the function of the agency, whether the burden estimates are accurate, and if there are ways to minimize the estimated burden and enhance the quality of the collection, to Veronica Johnson, Program Analyst, Office of Business Development, Small Business Administration, 409 3rd Street SW., Suite 8800, Washington, DC 20416.

FOR FURTHER INFORMATION CONTACT: Veronica Johnson, Program Analyst, 202-619-0472 or Curtis B. Rich, Management Analyst, 202-205-7030.

SUPPLEMENTARY INFORMATION: Title: “8(a) Annual Update.”

Description of Respondents: 8(a) Business Owners.

Form No.: 1450.

Annual Responses: 6,942.

Annual Burden: 13,884.

ADDRESSES: Send all comments regarding whether this information collection is necessary for the proper performance of the function of the agency, whether the burden estimates are accurate, and if there are ways to minimize the estimated burden and enhance the quality of the collection, to Carol Greenfield, Grants Management Specialist, Office of Procurement & Grants Management, Small Business Administration, 409 3rd Street SW., Suite 5000, Washington, DC 20416.

FOR FURTHER INFORMATION CONTACT: Carol Greenfield, Grants Management Specialist, 202-205-7090 or Curtis B. Rich, Management Analyst, 202-205-7030.

SUPPLEMENTARY INFORMATION: Title: “Notice of Award.”

Description of Respondents: Participating Colleges.

Form No.: 1222.

Annual Responses: 477.

Annual Burden: 34,191.

ADDRESSES: Send all comments regarding whether this information collection is necessary for the proper performance of the function of the agency, whether the burden estimates are accurate, and if there are ways to minimize the estimated burden and enhance the quality of the collection, to Vanessa Piccioni, Management Analyst, Office of Small Business Development Centers, Small Business Administration, 409 3rd Street SW., Suite 5000, Washington, DC 20416.

FOR FURTHER INFORMATION CONTACT: Vanessa Piccioni, Management Analyst, 202-205-6705 or Curtis B. Rich, Management Analyst, 202-205-7030.

SUPPLEMENTARY INFORMATION: Title: “Other Funding under the SBDC Umbrella.”

Description of Respondents: SBA Small Business Development Centers.

Form No.: 2186.

Annual Responses: 58.

Annual Burden: 29.

Title: “Grant/Cooperative Agreement Cost Sharing Proposal.”

Description of Respondents: Grants Management Offices.

Form No.: 1224.

Annual Responses: 477.

Annual Burden: 34,191.

ADDRESSES: Send all comments regarding whether this information collection is necessary for the proper performance of the function of the agency, whether the burden estimates are accurate, and if there are ways to minimize the estimated burden and enhance the quality of the collection, to Sandra Johnston, Program Analyst, Office of Small Business Development Centers, Small Business Administration, 409 3rd Street SW., Suite 8300, Washington, DC 20416.

FOR FURTHER INFORMATION CONTACT: Sandra Johnston, Program Analyst, 202-205-7528 or Curtis B. Rich, Management Analyst, 202-205-7030.

SUPPLEMENTARY INFORMATION: Title: “Application for Pool of Guaranteed Interest.”

Description of Respondents: SBA Loan Pool Assemblers.

Form No.: 1454.

Annual Responses: 475.

Annual Burden: 1,425.

Jacqueline White,
Chief, Administrative Information Branch.

[FR Doc. E4-681 Filed 3-24-04; 8:45 a.m.]

BILLING CODE 8025-01-P